DEPARTMENT OF TRANSPORTATION

Federal Highway Administration

[Docket No. FHWA-2022-0010]

Agency Information Collection Activities: Request for Comments for a New Information Collection

AGENCY: Federal Highway Administration (FHWA), DOT.

ACTION: Notice and request for comments.

SUMMARY: The FHWA invites public comments about our intention to request the Office of Management and Budget's (OMB) approval for a new information collection, which is summarized below under Supplementary Information. We are required to publish this notice in the Federal Register by the Paperwork Reduction Act of 1995.

DATES: Please submit comments by June 27, 2022.

ADDRESSES: You may submit comments identified by DOT Docket ID Number 2022-0010 by any of the following methods:

Website: For access to the docket to read background documents or comments received go to the Federal eRulemaking Portal: Go to http://www.regulations.gov. Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Spencer Stevens, Office of Planning, Environment, and Realty, 202-366-6221 and Reena Mathews Office of Planning, Environment, and Realty, 202-366-2076 Federal Highway Administration, Department of Transportation, 1200 New Jersey Avenue SE, Washington, DC 20590. Office hours are from 8 a.m. to 5 p.m., Monday through Friday, except Federal holidays.

SUPPLEMENTARY INFORMATION:

Title: National Complete Streets Assessment.

Background: The Federal Highway Administration is committed to a Complete Streets approach that is safe, and feels safe, for everyone using the street. The Infrastructure Investment and Jobs Act (IIJA), also known as the Bipartisan Infrastructure Law (BIL), Section 11206, defines Complete Streets standards or policies as those which “ensure the safe and adequate accommodation of all users of the transportation system, including pedestrians, bicyclists, public transportation users, children, older individuals, individuals with disabilities, motorists, and freight vehicles.”

While many jurisdictions across the United States have adopted Complete Streets policies directing their transportation agencies to routinely plan, design, build, and operate safe street networks for everyone, the FHWA would like to establish a baseline inventory both the enabling policies and implementation strategies for Complete Streets at the statewide level.

Through the survey, FHWA will assess the capabilities across the 50 State Departments of Transportation, as well as Washington, DC, and Puerto Rico (52 State DOTs) and establish a “national baseline” of Complete Streets practices. The information collected through this assessment will help better understand where FHWA can conduct research, develop additional technical assistance, and develop tools to improve the implementation of Complete Streets at the State level.

FHWA plans to conduct the survey on a voluntary-response basis, utilizing an electronic survey platform. This is planned as a one-time information collection, and FHWA estimates that the survey will take approximately one hour to complete. The survey will consist of both multiple-choice and short-answer question formats.

Respondents: 52 State DOTs.

Frequency: Once.

Estimated Average Burden per Response: Approximately 60 minutes per respondent.

Estimated Total Annual Burden Hours: Approximately 52 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; 23 U.S.C. 134 and 135; and 23 CFR chapter 1, subchapter E, part 450.

Dated: April 21, 2022.
Michael Howell,
FHWA Information Collection Officers.

[FR Doc. 2022-08876 Filed 4-25-22; 8:45 am]

BILLING CODE 4910-22-P